DEPARTMENT OF TRANSPORTATION

Federal Aviation Administration

14 CFR Part 39

[Docket No. FAA-2005-20725; Directorate Identifier 2003-NM-250-AD; Amendment 39-14183; AD 2005-14-06]

RIN 2120-AA64

Airworthiness Directives; Boeing Model 707-300B, -300C, and -400 Series Airplanes

AGENCY: Federal Aviation Administration (FAA), Department of Transportation (DOT).

ACTION: Final rule.

SUMMARY: The FAA is adopting a new airworthiness directive (AD) for all Boeing Model 707-300B, -300C, and -400 series airplanes. This AD requires repetitive inspections to detect cracked or broken hinge fitting assemblies of the inboard leading edge slats, and corrective action if necessary. This AD also provides as an option a preventive modification, which defers the repetitive inspections. In addition, this AD provides an option of replacing all hinge fitting assemblies with new, improved parts, which terminates the repetitive inspection requirements. This AD is prompted by results of a review to identify and implement procedures to ensure the continued structural airworthiness of aging transport category airplanes. We are issuing this AD to detect and correct fatigue cracking of the hinge fitting assembly of the inboard leading edge slats, which could result in reduced structural integrity of the slat system. This condition could result in loss of the inboard leading edge slat and could cause the flightcrew to lose control of the airplane.

DATES: This AD becomes effective August 16, 2005.

The incorporation by reference of a certain publication listed in the AD is approved by the Director of the Federal Register as of August 16, 2005.

ADDRESSES: For service information identified in this AD, contact Boeing Commercial Airplanes, P.O. Box 3707, Seattle, Washington 98124-2207.

Docket: The AD docket contains the proposed AD, comments, and any final disposition. You can examine the AD docket on the Internet at http://dms.dot.gov, or in person at the Docket Management Facility office between 9 a.m. and 5 p.m., Monday through Friday, except Federal holidays. The Docket Management Facility office (telephone (800) 647-5227) is located on the plaza level of the Nassif Building at the U.S. Department of Transportation, 400 Seventh Street SW., room PL-401, Washington, DC. This docket number is FAA-2005-20725; the directorate identifier for this docket is 2003-NM-250-AD.

FOR FURTHER INFORMATION CONTACT: Candice Gerretsen, Aerospace Engineer, Airframe Branch, ANM-120S, FAA Seattle Aircraft Certification Office, 1601 Lind Avenue SW., Renton, Washington 98055-4056; telephone (425) 917-6428; fax (425) 917-6590.

SUPPLEMENTARY INFORMATION: The FAA proposed to amend 14 CFR part 39 with an AD for all Boeing Model 707-300B, -300C, and -400 series airplanes. That action, published in the Federal Register on March 30, 2005 (70 FR 16177), proposed to require repetitive inspections to detect cracked or broken hinge fitting assemblies of the inboard leading edge slats, and corrective action if necessary. That action also proposed an optional preventive modification, which defers the repetitive inspections. In addition, that action proposed an option of replacing all hinge fitting assemblies with new, improved parts, which terminates the repetitive inspection requirements.

Comments

We provided the public the opportunity to participate in the development of this AD. We have considered the comment that has been submitted on the proposed AD. The commenter supports the proposed AD.

Explanation of Change to Referenced Service Bulletin

We have corrected the title of the service bulletin referred to in this AD to “Boeing 707/720 Service Bulletin 2982.”

Clarification of Optional Preventative Modification

We have revised the text of paragraph (i) of the AD to clarify that the optional preventative modification “defers the repetitive inspections required by paragraph (g) of this AD.”

Conclusion

We have carefully reviewed the available data, including the comment that has been submitted, and determined that air safety and the public interest require adopting the AD with the changes described previously. We have determined that these changes will neither increase the economic burden on any operator nor increase the scope of the AD.

Costs of Compliance

This AD affects about 189 Boeing Model 707-300B, -300C, and -400 series airplanes worldwide. The following table provides the estimated costs for U.S. operators to comply with this AD.

Estimated Costs
Action | Work hours | Average labor rate per hour | Parts | Cost per airplane | Number of U.S.-registered airplanes
Dye Penetrant Inspection | 3 | $65 | (¹) | $195 (per inspection cycle) | 16
Preventive Modification (Optional) | 10 | 65 | (¹) | 650 (per inspection) | 16
Terminating Action (Optional) | 10 | 65 | $8,220 | 8,870 | 16
¹ None.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2005-14-06 Boeing: Amendment 39-14183. Docket No. FAA-2005-20725; Directorate Identifier 2003-NM-250-AD.

Effective Date

(a) This AD becomes effective August 16, 2005.

Affected ADs

(b) None.

Applicability

(c) This AD applies to all Boeing Model 707-300B, -300C, and -400 series airplanes, certificated in any category.

Unsafe Condition

(d) This AD was prompted by results of a review to identify and implement procedures to ensure the continued structural airworthiness of aging transport category airplanes. We are issuing this AD to detect and correct fatigue cracking of the hinge fitting assembly of the inboard leading edge slats, which could result in reduced structural integrity of the slat system. This condition could result in loss of the inboard leading edge slat and could cause the flightcrew to lose control of the airplane.

Compliance

(e) You are responsible for having the actions required by this AD performed within the compliance times specified, unless the actions have already been done.

Service Bulletin Reference

(f) In this AD, the term “service bulletin” means the Accomplishment Instructions of Boeing 707/720 Service Bulletin 2982, Revision 2, dated October 7, 1977.

Repetitive Inspections

(g) Before the accumulation of 10,000 total flight hours, or within 1,500 flight hours after the effective date of this AD, whichever occurs later, do a dye penetrant inspection to detect cracked or broken hinge fitting assemblies of the inboard leading edge slats in accordance with Part I, “Inspection Data,” of the service bulletin. Repeat the inspection at intervals not to exceed 1,500 flight hours, except as provided by paragraph (i) or (k) of this AD.

Corrective Action

(h) If any crack or broken assembly is found during any inspection required by paragraph (g) of this AD, before further flight, do the action specified in paragraph (h)(1), (h)(2), or (h)(3) of this AD.

(1) Replace the hinge fitting assembly with a like serviceable part in accordance with Part I of the service bulletin.

(2) Replace the hinge fitting assembly with a like serviceable part on which the preventative modification specified in paragraph (i) of this AD has been done, in accordance with Part II of the service bulletin. This replacement defers the repetitive inspection requirements of paragraph (g) of this AD for 15,000 flight hours for that hinge fitting assembly.

(3) Replace the hinge fitting assembly with a new, improved part in accordance with Part III of the service bulletin. This replacement terminates the repetitive inspection requirements of paragraph (g) of this AD for that hinge fitting assembly.

Note 1: For this AD, a “like serviceable part” is a serviceable part listed in the “Existing” part number column of Table II of the service bulletin that has been inspected and found to be crack free in accordance with paragraph (g) of this AD before installation. A “new part” is a part listed in the “Replacement” or “Optional” part number column of Table II of the service bulletin.

Optional Preventative Modification (Defers Repetitive Inspections)

(i) Doing a preventative modification by accomplishing all the procedures in Part II of the service bulletin, except as required by paragraph (j) of this AD, defers the repetitive inspections required by paragraph (g) of this AD. Within 15,000 flight hours after the preventive modification, do the repetitive inspections in paragraph (g) of this AD at intervals not to exceed 1,500 flight hours.

(j) If any crack is found during the preventative modification specified in paragraph (i) of this AD, before further flight, do the action specified in paragraph (h) of this AD.

Optional Terminating Action

(k) Replacement of a hinge fitting assembly with a new, improved part terminates the repetitive inspection requirements of paragraph (g) of this AD for that assembly. Replacement of all hinge fitting assemblies with new, improved parts terminates the repetitive inspection requirements of this AD. The replacement must be done in accordance with Part III of the service bulletin.

Actions Accomplished Using a Previous Issue of the Service Bulletin

(l) Actions accomplished before the effective date of this AD using Boeing 707/720 Service Bulletin 2982, Revision 1, dated June 29, 1970, are considered acceptable for compliance with the corresponding action in this AD.

Alternative Methods of Compliance (AMOCs)

(m)(1) The Manager, Seattle Aircraft Certification Office (ACO), FAA, has the authority to approve AMOCs for this AD, if requested using the procedures found in 14 CFR 39.19.

(2) An AMOC that provides an acceptable level of safety may be used for a preventive modification of hinge fitting assemblies of the inboard leading edge slat if it is approved by an Authorized Representative for the Boeing Delegation Option Authorization Organization who has been authorized by the Manager, Seattle ACO, to make those findings. For a repair method to be approved, the repair must meet the certification basis of the airplane, and the approval must specifically refer to this AD.

Material Incorporated by Reference

(n) You must use Boeing 707/720 Service Bulletin 2982, Revision 2, dated October 7, 1977, to perform the actions that are required by this AD, unless the AD specifies otherwise. Boeing 707/720 Service Bulletin 2982, Revision 2, dated October 7, 1977, contains the following list of effective pages:

Page No. | Revision level shown on page | Date shown on page
1-6, 8, 12 | 2 | Oct. 7, 1977.
7, 9-11, 13-27 | 1 | June 29, 1970.

The Director of the Federal Register approves the incorporation by reference of this document in accordance with 5 U.S.C. 552(a) and 1 CFR part 51. To get copies of the service information, contact Boeing Commercial Airplanes, P.O. Box 3707, Seattle, Washington 98124-2207. To view the AD docket, go to the Docket Management Facility, U.S. Department of Transportation, 400 Seventh Street SW., room PL-401, Nassif Building, Washington, DC. To review copies of the service information, go to the National Archives and Records Administration (NARA). For information on the availability of this material at the NARA, call (202) 741-6030, or go to http://www.archives.gov/federal_register/code_of_federal_regulations/ibr_locations.html.

Issued in Renton, Washington, on June 29, 2005.
Kevin M. Mullin,
Acting Manager, Transport Airplane Directorate, Aircraft Certification Service.

[FR Doc. 05-13435 Filed 7-11-05; 8:45 am]

BILLING CODE 4910-13-P